DEPARTMENT OF THE TREASURY

Submission for OMB Review; Comment Request

May 23, 2013.

The Department of the Treasury will submit the following information collection requests to the Office of Management and Budget (OMB) for review and clearance in accordance with the Paperwork Reduction Act of 1995, Public Law 104-13, on or after the date of publication of this notice.

DATES: Comments should be received on or before July 1, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Internal Revenue Service (IRS)

OMB Number: 1545-1450.

Type of Review: Extension without change of a currently approved collection.

Title: FI-59-91 (Final), Debt Instructions with Originals Issue Discount; Contingent Payments; Anti-Abuse Rule.

Abstract: The regulations provide definitions, general rules, and reporting requirements for debt instruments that provide for contingent payments. The regulations also provide definitions, general rules, and recordkeeping requirements for integrated debt instruments.

Affected Public: Private Sector: Businesses or other for-profits.

Estimated Annual Burden Hours: 89,000.

OMB Number: 1545-2232.

Type of Review: Extension without change of a currently approved collection.

Title: TD 9580 (REG-131491-10) Health Insurance Premium Tax Credit.

Abstract: This document contains final regulations relating to the health insurance premium assistance credit enacted by the Patient Protection and Affordable Care Act (PPACA). The regulations provide guidance to individuals who claim the premium assistance credit and exchanges that make qualified health plans available to individuals and employers.

Affected Public: Private Sector: Not-for-profit institutions.

Estimated Annual Burden Hours: 250,000.

Dawn D. Wolfgang,
Treasury PRA Clearance Officer.

[FR Doc. 2013-12772 Filed 5-29-13; 8:45 am]

BILLING CODE 4830-01-P